COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds to the Procurement List commodities and services to be furnished by nonprofit agencies employing persons who are blind or have other severe disabilities, and deletes from the Procurement List commodities and services previously furnished by such agencies.

EFFECTIVE DATE: July 10, 2000.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740.

SUPPLEMENTARY INFORMATION: On August 20, 1999, and March 31, April 7, 14 and 21, 2000, the Committee for Purchase From People Who Are Blind or Severely Disabled published notices (64 FR 45506 and 65 FR 17255, 18281, 18282, 20134 and 21395) of proposed additions to and deletions from the Procurement List.

Additions

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities

Sac Saver

M.R. 1010

Handle, Jack

5120-01-032-6042

Services

Janitorial/Custodial

Fort Huachuca, Arizona

Janitorial/Custodial

Naval and Marine Corps Reserve Center, 1620 East Saginaw Street, Lansing, Michigan

Janitorial/Custodial

PFC Cloyse E. Hall USARC, Salem, Virginia

Laundry Service

Veterans Affairs Medical Center, 800 Zorn Avenue, Louisville, Kentucky

Medical Courier Service

Veterans Affairs Medical Center, 4100 West 3rd Street, Dayton, Ohio

Release of Information Copying Services for the following locations:

Veterans Affairs Medical Center, 421 North Main Street, Leeds, Massachusetts

Springfield Outpatient Clinic

1550 Main Street, Springfield, Massachusetts

This action does not affect current contracts awarded prior to the effective date of this addition or options that may be exercised under those contracts.

Deletions

I certify that the following action will not have a significant impact on a substantial number of small entities. The major factors considered for this certification were:

1. The action may not result in any additional reporting, recordkeeping or other compliance requirements for small entities.

2. The action will not have a severe economic impact on future contractors for the commodities and services.

3. The action may result in authorizing small entities to furnish the commodities and services to the Government.

4. There are no known regulatory alternatives which would accomplish the objectives of the Javits-Wagner-O'Day Act (41 U.S.C. 46-48c) in connection with the commodities and services deleted from the Procurement List.

After consideration of the relevant matter presented, the Committee has determined that the commodities and services listed below are no longer suitable for procurement by the Federal Government under 41 U.S.C. 46-48c and 41 CFR 51-2.4.

Accordingly, the following commodities and services are hereby deleted from the Procurement List:

Commodities

Cover, Shipping, Blade

1615-01-160-3748

Ladder, Straight (Wood)

5440-00-816-2585

Cleaning Compound, Windshield

6850-00-926-2275

Ink, Marking Stencil, Opaque

7510-00-183-7697

7510-00-183-7698

Cleaning Compound, Rug and Upholstery

7930-00-113-1913

7930-01-393-6762

7930-01-393-6757

Disinfectant-Detergent, General Purpose

7930-01-393-6753

Rinse Additive, Dishwashing

7930-00-619-9575

Aerosol Paint, Lacquer

8010-00-584-3148

8010-00-721-9743

8010-00-141-2950

8010-00-965-2392

Enamel

8010-01-332-3743

8010-01-336-5061

8010-01-336-5063

8010-01-331-6120

8010-01-332-3742

8010-01-363-3376

Enamel, Aerosol, Waterbase

8010-01-350-5254

8010-01-350-5255

8010-01-350-4746

8010-01-350-4747

8010-01-350-4755

8010-01-350-5248

8010-01-350-5249

8010-01-350-5258

8010-01-397-3985

Enamel, Lacquer

8010-00-852-9033

8010-00-846-5117

8010-00-181-7371

8010-00-988-1458

8010-00-935-7075

Trousers, Men's, Medical Assistant

8405-00-110-8290

8405-00-110-8291

8405-00-110-8292

8405-00-110-8293

8405-00-110-8294

8405-00-110-8295

8405-00-110-8296

8405-00-110-8297

8405-00-110-8298

8405-00-110-8299

8405-00-110-8301

8405-00-110-8302

8405-00-110-9468

8405-00-110-9469

8405-00-110-9470

8405-00-110-9471

8405-00-110-9472

8405-00-110-9473

8405-00-110-9474

8405-00-110-9475

8405-00-110-9476

8405-00-110-9477

8405-00-110-9478

8405-00-110-9479

8405-00-110-9480

8405-00-110-9481

8405-00-110-9482

8405-00-110-9483

8405-00-110-9484

8405-00-110-9485

8405-00-110-9486

8405-00-110-9487

8405-00-110-9488

8405-00-110-9489

8405-00-110-9490

8405-00-110-9697

8405-00-113-5418

8405-00-008-8848

Services

Administrative Services

Defense Reutilization and Marketing Office, Sheppard Building, Sheppard Air Force Base, Texas

Food Service Attendant

Naval Undersea Warfare Center, Building 35, Keyport, Washington

Janitorial/Custodial

U.S. Courthouse, 500 State Avenue, Kansas City, Kansas

Janitorial/Custodial

Federal Building, 500 Quarrier Street, Charleston, West Virginia

Mail and Messenger Service

U.S. Army Garrison-Fitzsimons, Aurora, Colorado

Restocking Parts

Kelly Air Force Base, Texas

Scrap Breakdown

Defense Reutilization and Marketing Office, Kelly Air Force Base, Texas

Louis R. Bartalot,
Deputy Director (Operations).

[FR Doc. 00-14684 Filed 6-8-00; 8:45 am]

BILLING CODE 6353-01-P